DEPARTMENT OF AGRICULTURE

Forest Service

Rico West Dolores Roads and Trails Project (Travel Management); Dolores District of the San Juan National Forest; Colorado

AGENCY: Forest Service, USDA.

ACTION: Notice of intent to prepare an environmental impact statement.

SUMMARY: The Forest Service intends to prepare an environmental impact statement to analyze and disclose the environmental effects of adjustments to the road and trail system in the Rico West Dolores area. A project-level amendment to the San Juan Land and Resource Management Plan is also proposed. The analysis area is in Dolores and Montezuma Counties approximately 5 miles north of the Town of Dolores and includes National Forest Lands surrounding the Town of Rico.

DATES: If you have supplementary comments which meet the description in Scoping Process, below, they must be received by July 6, 2015.

ADDRESSES: If you have supplementary comments which meet the description in Scoping Process, below, submit them in writing to Derek Padilla, District Ranger, Dolores Ranger District, 29211 Highway 184, Dolores, CO 81323; comments may also be emailed to dkill@fs.fed.us or sent by facsimile to 970-882-6841. All comments, including names and addresses when provided, are placed in the record and are available for public inspection and copying.

FOR FURTHER INFORMATION CONTACT: Deborah Kill, NEPA Coordinator and Interdisciplinary Team Leader, telephone 970-882-7296. Individuals who use telecommunication devices for the deaf (TDD) may call the Federal Information Relay Service (FIRS) at 1-800-877-8339 between 8 a.m. and 8 p.m., Eastern Time, Monday through Friday.

SUPPLEMENTARY INFORMATION:

Previous Scoping Period

A previous scoping period, including public input occurred from December 12th 2014 through January 30th 2015. That scoping period met the requirement for scoping for the Environmental Impact Statement. Written comments that were submitted during the previous scoping period are considered and filed in the project record. The Forest Service requests that you do not resubmit the same comments. Because of extensive public input, the scope of issues to be analyzed in the Environmental Impact Statement has already been well examined.

This notice of intent initiates a supplementary scoping process, which is intended to provide an additional opportunity for the public to comment on the scope of issues to be analyzed in the Environmental Impact Statement only if there is new or different information that has not been previously considered. To determine whether your comment or concern has previously been submitted, please read the Scoping Report found on the project Web page at http://www.fs.usda.gov/project/?project=44918 or call Deborah Kill at 970-882-6822.

Proposed Action

The Proposed Action document and maps located at http://www.fs.usda.gov/project/?project=44918 describes proposed actions in detail. There has been no change to the proposals since this Proposed Action document was published for the first scoping period in December, except that additional language has been added to the Purpose and Need statement below to add clarification. Briefly, the proposals include (1) minor adjustments to the main graveled roads, (2) re-configuration of some native surface roads which includes converting some native surface roads to ATV trails, (3) setting limits for day-use and overnight parking off of the roads, (4) changing to the type of uses allowed on some of the single track trails, (5) new timing restrictions on motorcycle use of single track trails, (6) re-alignment of single track trails at select locations, and (7) additional single track trails added to the system. As stated in the Proposed Action document, it will be necessary to adjust the Forest Plan's Over-Ground Travel Suitability Map and the Recreation Opportunity Spectrum Map and these Forest Plan changes would apply only to the Rico-West Dolores analysis area.

Purpose and Need

The purpose of the Proposed Action is to manage over-ground wheeled motorized vehicle use in accordance with the requirements of the Travel Management Rule (36 CFR 212). The Rule requires the Forest Service to designate a system of roads, trails, and areas for motorized use by vehicle class and, if appropriate, by time of year. The travel rule at 36 CFR 212.55 also lists criteria for designation of roads, trails and areas as follows, (a) General criteria for designation of National Forest System roads, National Forest System trails, and areas on National Forest System lands. In designating National Forest System roads, National Forest System trails, and areas on National Forest System lands for motor vehicle use, the responsible official shall consider effects on National Forest System natural and cultural resources, public safety, provision of recreational opportunities, access needs, conflicts among uses of National Forest System lands, the need for maintenance and administration of roads, trails, and areas that would arise if the uses under consideration are designated; and the availability of resources for that maintenance and administration. (b) Specific criteria for designation of trails and areas. In addition to the criteria in paragraph (a) of this section, in designating National Forest System trails and areas on National Forest System lands, the responsible official shall consider effects on the following, with the objective of minimizing: (1) Damage to soil, watershed, vegetation, and other forest resources; (2) Harassment of wildlife and significant disruption of wildlife habitats; (3) Conflicts between motor vehicle use and existing or proposed recreational uses of National Forest System lands or neighboring Federal lands; and (4) Conflicts among different classes of motor vehicle uses of National Forest System lands or neighboring Federal lands. In addition, the responsible official shall consider: (5) Compatibility of motor vehicle use with existing conditions in populated areas, taking into account sound, emissions, and other factors.

The purpose of this action is to balance the current and future recreational desires of the public with Forest Service responsibilities for wildlife and fisheries management, water resources management, and forest management as well as the desires of local communities and affected private land owners. This action is needed to develop a sustainable system of trails and roads where motorized travel is appropriate and will strive to improve both the motorized and non-motorized user's experience.

Decision To Be Made

The decision to be made is whether to implement the proposed action, or to meet the purpose and need for action through some other combination of activities, or to take no action at this time.

Dates

Another opportunity for public comment will occur when the Draft Environmental Impact Statement describing alternatives in detail will be made available for public comment later in 2015. At that time, public comments on the draft EIS will be received for 45 days from the date the Environmental Protection Agency publishes the notice of availability of the draft EIS in the Federal Register. A draft decision is expected in late 2015.

Administrative Review Processes

For project-level decisions about the road and trail system, the Forest Service will apply its pre-decisional administrative review process described in 36 CFR part 218, subparts A and B. Preliminary project-level decisions about the road and trail system will be described in a draft Record of Decision.

The proposed forest plan amendment, if selected, will be subject to 1982 Planning Rule regulations 219.17(f) which state that `If the change resulting from the amendment is determined not to be significant for the purposes of the planning process, the Forest Supervisor may implement the amendment following appropriate public notification and satisfactory completion of NEPA procedures.'

The Forest Service will apply the pre-decisional objection process at 36 CFR 219 subpart B to the Forest Plan amendment.

Responsible Official and Lead Agency

The USDA Forest Service is the lead agency for this proposal. District Ranger Derek Padilla is the responsible official for project decisions while Kara Chadwick, Forest Supervisor is the responsible official for the Forest Plan amendment.

Dated: May 29, 2015.
Derek Padilla,
Dolores District Ranger.

[FR Doc. 2015-13761 Filed 6-4-15; 8:45 am]

BILLING CODE 3410-11-P